DEPARTMENT OF HEALTH AND HUMAN SERVICES

Administration for Community Living

Agency Information Collection Activities; Comment Request; Redesign of Existing Data Collection; Older Americans Act Titles III and VII; State Program Performance Report

AGENCY: Administration for Community Living, HHS.

ACTION: Notice.

SUMMARY: The Administration for Community Living (ACL) is announcing an opportunity for the public to comment on the proposed collection of certain information by the agency. Under the Paperwork Reduction Act of 1995 (the PRA), Federal agencies are required to publish a notice in the Federal Register concerning each proposed collection of information, including each proposed extension of an existing collection of information, and to allow 60 days for public comment in response to the notice. This notice solicits comments on a proposed revision to an existing data collection related to the Older Americans Act Title III and VII State Program Performance Report (SPR) (ICR Rev).

DATES: Submit written or electronic comments on the collection of information by July 31, 2017.

ADDRESSES:

Submit electronic comments on the collection of information to: SPRredesign.comments@acl.hhs.gov.

Submit written comments on the collection of information to: U.S. Department of Health and Human Services, Administration for Community Living, Washington, DC 20201, Attention: Jennifer Klocinski.

FOR FURTHER INFORMATION CONTACT: Jennifer Klocinski by telephone: (202) 795-7377 or by email: SPRredesign.comments@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval.

To comply with the above requirement, ACL is publishing a notice of the proposed revision of a currently approved collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

Purpose

The purpose of this data collection is to fulfill requirements of the Older Americans Act and the Government Performance and Results Modernization Act of 2010 (GPRAMA) and related program performance activities. Section 202(a)(16) of the OAA requires the collection of statistical data regarding the programs and activities carried out with funds provided under the OAA and Section 207(a) directs the Assistant Secretary for Aging to prepare and submit a report to the President and Congress based on those data. Section 202(f) directs the Assistant Secretary to develop a set of performance outcome measures for planning, managing, and evaluating activities performed and services provided under the OAA. Requirements pertaining to the measurement and evaluation of the impact of all programs authorized by the OAA are described in section 206(a). The State Performance Report is one source of data used to develop and report performance outcome measures and measure program effectiveness in achieving the stated goals of the OAA.

The Administration on Aging (now within the Administration for Community Living) first developed a State Program Performance Report (SPR) in 1996 as part of its National Aging Program Information System (NAPIS). The SPR collects information about the national Aging Network, how State Agencies on Aging expend their OAA funds, as well as funding from other sources for OAA authorized supportive services. The SPR also collects information on the demographic and functional status of the recipients and is a key source for ACL performance measurement.

Revisions

Significant revisions to the SPR were last implemented in 2005. This proposed collection is a revision that will replace the currently approved version (effective 2017-2019). The factors that influenced the proposed revision of the SPR, include: (1) The need to reduce reporting burden while enhancing data quality; (2) the need to modernize the data structure to allow for more efficient reporting and the ability to use current technology for reporting and analysis; (3) an interest in aligning data elements within and across data collections; and (4) the need to consider alternative data elements that reflect the current Aging Network and long-term care services and supports. The proposed SPR revision reduces the number of data elements reported by 70% compared to the current SPR.

Reductions in data elements are found throughout the data collection, but are concentrated in the consumer demographic components. Due to the aggregate level nature of the SPR, information on combinations of demographic characteristics (e.g. number of women served who are 65 years or older and have 2 activity of daily living limitations) require exponentially larger numbers of data elements compared to single demographic characteristics (e.g. number of women served). To reduce reporting burden associated with the number of data elements, ACL is proposing to limit data element combinations. The remaining proposed demographic data elements include indicators of priority populations (i.e. social and economic vulnerability and frailty) found in the OAA and will allow ACL to continue to measure efforts to target services.

Limited expansions in data elements are found in the Title III-E National Family Caregiver Support Program service component. The proposal separates out three services that were reported as a whole (i.e. counseling, training and support group services). Separation allows for support group services to be categorized as a non-registered service for which consumer demographic details are no longer reported. Additional information regarding the types of respite services provided under the OAA is sought. The proposal separates assistance services into two types: (1) Case management, and (2) information and assistance. Case management assistance services are categorized as registered, meaning caregiver demographic data are reported while information and assistance services do not include reporting of demographic data. Supplemental services are reported in the same manner as “other service” under Title III-B, Home and Community-based Services (HCBS) program. Across the OAA services, greater detail regarding expenditure data is proposed. Under Title III-B, HCBS program, the proposed data collection expands data regarding legal assistance services. The ACL also seeks data on the OAA identified priority legal issues for closed cases. Taken as a whole, the proposed reductions far exceed the proposed increases in data burden.

The proposed reporting requirements may be found on the ACL Web site under State Program Performance Report (SPR) Proposed Revisions for Comment, available at: https://agid.acl.gov/Default.aspx.

The estimated hour burden per respondent for the SPR in FY 2019 (year of first report) will change from the 50 hours estimate in FY 2016 to 33.5 hours, a decrease due to a 70% reduction in the number of data elements reported. The number of hours is multiplied by 56 state units on aging, resulting in a total estimated hour aggregate burden of 1,876 hours (see table below).

Table—Estimated Annualized Burden Hours
Type of respondent | Form name | Number of respondents | Number of responses per respondent | Average burden per response (in hours) | Total burden hours
States | State Performance Report | 56 | 1 | 33.5 | 1,876

Dated: May 25, 2017.
Daniel P. Berger,
Acting Administrator and Assistant Secretary for Aging.

[FR Doc. 2017-11286 Filed 5-31-17; 8:45 am]

BILLING CODE 4154 -01-P